DEPARTMENT OF THE TREASURY

Internal Revenue Service

Open meeting of Citizen Advocacy Panel, Midwest District

AGENCY: Internal Revenue Service (IRS), Treasury

ACTION: Notice.

SUMMARY: A meeting of the Midwest Citizen Advocacy Panel will be held in Omaha, Nebraska.

DATES: The meeting will be held Thursday, November 16, 2000, and Friday, November 17, 2000.

FOR FURTHER INFORMATION CONTACT: Sandra McQuin at 1-888-912-1227, or 414-297-1604.

SUPPLEMENTARY INFORMATION: Notice is hereby given pursuant to Section 10(a)(2) of the Federal Advisory Committee Act, 5 U.S.C. App. (1988) that an open meeting of the Citizen Advocacy Panel (CAP) will be held Thursday, November 16, 2000, from 9:00 a.m. to 4:00 p.m. and Friday, November 17, 2000, from 9:00 a.m. to noon at the W Dale Clark Main Library, 215 South 15th Street, Omaha, NE 68102. The Citizen Advocacy Panel is soliciting public comment, ideas, and suggestions on improving customer service at the Internal Revenue Service. Written comments can be submitted to the panel by fax to (414) 297-1623, or by mail to Citizen Advocacy Panel, Mail Stop 1006 MIL, 310 West Wisconsin Avenue, Milwaukee, WI 53203-2221.

The Agenda will include the following: Reports by the CAP sub-groups, presentation of taxpayer issues by individual members, discussion of issues, and the CAP office report.

Note: Last minute changes to the agenda are possible and could prevent effective advance notice.

Dated: October 23, 2000.
John J. Mannion,
Program Manager, Taxpayer Advocate Service.

[FR Doc. 00-27693 Filed 10-26-00; 8:45 am]

BILLING CODE 4830-01-P